ENVIRONMENTAL PROTECTION AGENCY

[EPA-HQ-OPP-2005-0123; FRL-8872-2]

Methyl Bromide; Cancellation Order for Registration Amendments To Terminate Certain Soil Uses

AGENCY: Environmental Protection Agency (EPA).

ACTION: Notice.

SUMMARY: This notice announces EPA's order for the amendments to terminate soil uses, voluntarily requested by the registrants and accepted by the Agency, of products containing methyl bromide, pursuant to section 6(f)(1) of the Federal Insecticide, Fungicide, and Rodenticide Act (FIFRA), as amended. This cancellation order follows a February 9, 2011, Federal Register Notice of Receipt of Requests from the registrants listed in Table 2 of Unit II to voluntarily amend to terminate uses of these product registrations. These are not the last products containing this pesticide registered for use in the United States. In that notice, EPA indicated that it would issue an order implementing the amendments to terminate uses, unless the Agency received substantive comments within the 30-day comment period that would merit its further review of these requests, or unless the registrants withdrew their requests. The Agency did not receive any comments on the notice. Further, the registrants did not withdraw their requests. These amendments do not affect post-harvest fumigant uses. Any distribution, sale, or use of the products subject to this cancellation order is permitted only in accordance with the terms of this order, including any existing stocks provisions.

DATES: The amendments are effective May 20, 2011.

FOR FURTHER INFORMATION CONTACT: Susan Bartow, Pesticide Re-evaluation Division (7508P), Office of Pesticide Programs, Environmental Protection Agency, 1200 Pennsylvania Ave., NW., Washington, DC 20460-0001; telephone number: (703) 603-0065; fax number: (703) 308-8090; e-mail address: bartow.susan@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2005-0123. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the amendments to delete uses, as requested by registrants, of products registered under section 3 of FIFRA. These registrations are listed in sequence by registration number in Tables 1A and 1B of this unit.

Table 1A—Methyl Bromide Product Registration Amendments To Delete Uses
Registration No. | Product name | Company
5785-19 | Terr-O-Gas® 70 | Great Lakes Chemical Corporation.
5785-22 | Terr-O-Gas® 98 | Great Lakes Chemical Corporation.
5785-23 | Terr-O-Gas® 45 | Great Lakes Chemical Corporation.
5785-24 | Terr-O-Gas® 67 | Great Lakes Chemical Corporation.
5785-25 | Terr-O-Gas® 33 | Great Lakes Chemical Corporation.
5785-28 | Terr-O-Gas® 57 | Great Lakes Chemical Corporation.
5785-40 | Terr-O-Gas® 75 | Great Lakes Chemical Corporation.
5785-42 | Brom-O-Gas® 2% | Great Lakes Chemical Corporation.
5785-47 | Terr-O-Gas® 80 | Great Lakes Chemical Corporation.
5785-48 | Terr-O-Gas® 50 | Great Lakes Chemical Corporation.
8536-05 | Pic-Brom 33 | Soil Chemicals Corporation d/b/a Cardinal Professional Products.
8536-06 | Pic-Brom 55 | Soil Chemicals Corporation d/b/a Cardinal Professional Products.
8536-07 | Pic-Brom 43 | Soil Chemicals Corporation d/b/a Cardinal Professional Products.
8536-09 | Pic-Brom 50 | Soil Chemicals Corporation d/b/a Cardinal Professional Products.
8536-11 | Pic-Brom 25 | Soil Chemicals Corporation d/b/a Cardinal Professional Products.
8536-19 | Methyl Bromide 98% | Soil Chemicals Corporation d/b/a Cardinal Professional Products.
8536-20 | Pic-Brom 67 | Soil Chemicals Corporation d/b/a Cardinal Professional Products.
8622-12 | 98-2 Soil Fumigant | ICL-IP America, Incorporated.
8622-13 | 67-33 Preplant Soil Fumigant | ICL-IP America, Incorporated.
8622-14 | 70-30 Preplant Soil Fumigant | ICL-IP America, Incorporated.
8622-15 | 75-25 Preplant Soil Fumigant | ICL-IP America, Incorporated.
8622-17 | Metabrom 99 | ICL-IP America, Incorporated.
8622-39 | 50-50 Preplant Soil Fumigant | ICL-IP America, Incorporated.
8622-40 | 57-43 Preplant Soil Fumigant | ICL-IP America, Incorporated.
8622-44 | 80-20 Preplant Soil Fumigant | ICL-IP America, Incorporated.
8853-1 | MBC Soil Fumigant | Hendrix and Dail, Incorporated.
8853-2 | MBC Concentrate Soil Fumigant | Hendrix and Dail, Incorporated.
8853-3 | MBC-33 Soil Fumigant | Hendrix and Dail, Incorporated.
11220-04 | Tri-Con 57/43 | Trical, Incorporated.
11220-07 | Tri-Con 67/33 | Trical, Incorporated.
11220-08 | Tri-Con 75/25 | Trical, Incorporated.
11220-10 | Tri-Con 50/50 | Trical, Incorporated.
11220-11 | Tri-Con 45/55 | Trical, Incorporated.
11220-17 | Methyl Bromide 89.5% | Trical, Incorporated.
58266-1 | Tri-Con 80/20 Preplant Soil Fumigant | Shadow Mountain Products Corporation.

Table 1B—Methyl Bromide Product Registration Amendments To Delete Uses
Registration No. | Product name | Company | Uses to be deleted
8536-12 | Methyl Bromide 99.5% | Soil Chemicals Corporation d/b/a Cardinal Professional Products | Soil fumigation uses.

Table 2 of this unit includes the names and addresses of record for all registrants of the products in Table 1A and Table 1B of this unit, in sequence by EPA company number. This number corresponds to the first part of the EPA registration numbers of the products listed in Table 1A and Table 1B of this unit.

Table 2—Registrants of Amended Products
EPA Company No. | Company name and address
5785 | Great Lakes Chemical Corporation, P.O. Box 2200, West Lafayette, IN 47996-2200.
8536 | Soil Chemicals Corporation, d/b/a Cardinal Professional Products, P.O. Box 782, Hollister, CA 95024-0782.
8622 | ICL-IP America, Incorporated, 95 MacCorkle Avenue, SW., South Charleston, WV 25303.
8853 | Hendrix and Dail, Incorporated, P.O. Box 648, Greenville, NC 27835-0648.
11220 | Trical, Incorporated, P.O. Box 1327, Hollister, CA 95024-1327.
58266 | Shadow Mountain Products Corporation, P.O. Box 1327, Hollister, CA 95024-1327.

III. Summary of Public Comments Received and Agency Response to Comments

During the public comment period provided, EPA received no comments in response to the February 9, 2011, Federal Register notice (76 FR 7200; FRL-8862-5) announcing the Agency's receipt of the requests for voluntary amendments to delete uses of products listed in Table 1A and Table 1B of Unit II.

IV. Cancellation Order

Pursuant to FIFRA section 6(f), EPA hereby approves the requested amendments to terminate uses of methyl bromide registrations identified in Table 1A and Table 1B of Unit II. Accordingly, the Agency hereby orders that the product registrations identified in Table 1A and Table 1B of Unit II. are amended to terminate the affected uses. The effective date of the amendment of methyl bromide products that include soil uses other than uses that meet the definition of a “critical use,” a “quarantine application,” or a “pre-shipment application;” caneberries; fresh market tomatoes grown in California; fresh market peppers grown in California; Vidalia onions grown in Georgia; ginger grown in Hawaii; golf courses and athletic/recreational fields for resurfacing/replanting of turf; and treatment of tobacco seedling trays is May 20, 2011. The effective date of the amendment of methyl bromide products that include the non-CUE/QPS use on fresh market tomatoes (CA), fresh market peppers (CA), Vidalia onions (GA), and ginger (HI) is December 31, 2012. The effective date of the amendment of methyl bromide products that includes the non-CUE/QPS use for resurfacing/replanting turf and sod on golf courses and athletic/recreational fields is December 31, 2013. The effective date of the amendment of methyl bromide products that include the non-CUE/QPS use on caneberry or tobacco seedling tray uses is December 31, 2014. The effective date of the amendment listed in Table 1B is May 20, 2011. These amendments do not affect post-harvest fumigant uses of methyl bromide. Any distribution, sale, or use of existing stocks of the products identified in Table 1A and Table 1B of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on February 9, 2011. The comment period closed on March 11, 2011.

VI. Provisions for Disposition of Existing Stocks

Existing stocks are those stocks of registered pesticide products which are currently in the United States and which were packaged, labeled, and released for shipment prior to the effective date of the action. The existing stocks provision for the products subject to this order is as follows.

A. For All Products Listed in Table 1A in Unit II

1. All sale or distribution of existing stocks of methyl bromide products that include soil uses other than uses that meet the definition of a “critical use,” a “quarantine application,” or a “pre-shipment application;” caneberries; fresh market tomatoes grown in California; fresh market peppers grown in California; Vidalia onions grown in Georgia; ginger grown in Hawaii; golf courses and athletic/recreational fields for resurfacing/replanting of turf; and treatment of tobacco seedling trays is prohibited after publication of the cancellation order, unless that sale or distribution is solely for the purpose of facilitating disposal or export of the product.

Existing stocks may be used until those stocks are exhausted, provided that such use complies with the EPA-approved label and labeling of the product.

2. Existing stocks of methyl bromide products that include the non-CUE/QPS use on fresh market tomatoes (CA), fresh market peppers (CA), Vidalia onions (GA), and ginger (HI) may be sold and distributed for 120 days after the effective date of cancellation (i.e., 120 days after December 31, 2012); and users may continue to use existing stocks of such products for production of fresh market tomatoes (CA), fresh market peppers (CA), Vidalia onions (GA), and ginger (HI) until those existing stocks are exhausted, provided that no later than August 31, 2012, each registrant has submitted for each of the registrant's products labeled for the fresh market tomatoes (CA), fresh market peppers (CA), Vidalia onions (GA), and ginger (HI) uses, an application for amended registration to revise the approved labeling for those products to delete any language allowing use of the product for any of those uses. For any product that does not meet this condition, EPA may issue an amended order that prohibits sale and distribution and use of existing stocks as of the effective date of cancellation.

3. Existing stocks of methyl bromide products that include the non-CUE/QPS use on golf courses and athletic/recreational fields uses may be sold and distributed for 120 days after the effective date of cancellation (i.e., 120 days after December 31, 2013); and users may continue to use existing stocks of such products for resurfacing/replanting turf and sod on golf courses and athletic/recreational fields until those existing stocks are exhausted, provided that no later than August 31, 2013, each registrant has submitted for each of the registrant's products labeled for the golf course and athletic/recreational field uses, an application for amended registration to revise the approved labeling for those products to delete any language allowing use of the product for any of those uses. For any product that does not meet this condition, EPA may issue an amended order that prohibits sale and distribution and use of existing stocks as of the effective date of cancellation.

4. Existing stocks of methyl bromide products that include the non-CUE/QPS use on caneberry or tobacco seedling tray uses may be sold and distributed for 120 days after the effective date of cancellation (i.e., 120 days after December 31, 2014); and users may continue to use existing stocks of such products on the caneberry and tobacco seedling tray uses until those existing stocks are exhausted, provided that no later than August 31, 2014, each registrant has submitted for each of the registrant's products labeled for the caneberry or tobacco seedling tray uses, an application for amended registration to revise the approved labeling for those products to delete any language allowing use of the product for any of those uses. For any product that does not meet this condition, EPA may issue an amended order that prohibits sale and distribution and use of existing stocks as of the effective date of cancellation.

B. For the Product Listed in Table 1B in Unit II

All sale or distribution by the registrant of existing stocks is prohibited after publication of the cancellation order, unless that sale or distribution is solely for the purpose of facilitating disposal or export of the product.

Existing stocks may be sold and distributed by persons other than the registrant for 6 months from the date of the cancellation order.

Existing stocks may be used until those stocks are exhausted, provided that such use complies with the EPA-approved label and labeling of the product.

List of Subjects

Environmental protection, Pesticides and pests.

Dated: April 14, 2011.
Peter Caulkins,
Acting Director, Pesticide Re-evaluation Division, Office of Pesticide Programs.

[FR Doc. 2011-12478 Filed 5-19-11; 8:45 am]

BILLING CODE 6560-50-P